DEPARTMENT OF HOMELAND SECURITY

Coast Guard

33 CFR Part 117

[Docket No. USCG-2011-0202]

Drawbridge Operation Regulations; Harlem River, New York, NY

AGENCY: Coast Guard, DHS.

ACTION: Notice of temporary deviation from regulations.

SUMMARY: The Commander, First Coast Guard District, has issued a temporary deviation from the regulation governing the operation of the 103rd Street (Wards Island) Pedestrian Bridge, mile 0.0, across the Harlem River at New York City, New York. The deviation is necessary to facilitate bridge rehabilitation. This deviation allows the bridge to remain in the closed position for 70 days.

DATES: This deviation is effective from April 30, 2011 through July 8, 2011.

ADDRESSES: Documents mentioned in this preamble as being available in the docket are part of docket USCG-2011-0202 and are available online at http://www.regulations.gov, inserting USCG-2011-0202 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil, or telephone (212) 668-7165. If you have questions on viewing the docket, call Renee V. Wright, Program Manager, Docket Operations, telephone 202-366-9826.

SUPPLEMENTARY INFORMATION: The 103rd Street (Wards Island) Pedestrian Bridge, across the Harlem River, mile 0.0, at New York City, New York, has a vertical clearance in the closed position of 55 feet at mean high water and 60 feet at mean low water. The drawbridge operation regulations are listed at 33 CFR 117.789.

The owner of the bridge, New York City Department of Transportation, has requested a temporary deviation from the regulations to complete rehabilitation of the bridge which was begun in January 2011.

The Coast Guard published a temporary deviation for the 103rd Street (Wards Island) Pedestrian Bridge on January 20, 2011, (76 FR 3516), authorizing the bridge to remain in the closed position effective from January 10, 2011 through April 29, 2011.

The bridge owner has requested a second temporary deviation through July 8, 2011 in order to continue rehabilitation past April 29, 2011, due to unanticipated additional repair work which was discovered.

In addition, containment scaffolding located under the lift span will reduce the vertical clearance by approximately four feet while the scaffolding is in place. Most vessel traffic that uses this waterway can fit under the draw without requiring bridge openings.

Under this temporary deviation the 103rd Street (Wards Island) Pedestrian Bridge may remain in the closed position from April 30, 2011 through July 8, 2011. Vessels that can pass under the bridge in the closed position may do so at any time.

In accordance with 33 CFR 117.35(e), the bridge must return to its regular operating schedule immediately at the end of the designated time period. This deviation from the operating regulations is authorized under 33 CFR 117.35.

Dated: March 31, 2011.
Gary Kassof,
Bridge Program Manager, First Coast Guard District.

[FR Doc. 2011-8515 Filed 4-8-11; 8:45 am]

BILLING CODE 9110-04-P